DEPARTMENT OF HOUSING AND URBAN DEVELOPMENT

[Docket No. FR-4723-FA-08]

Announcement of Funding Awards for the Self-Help Homeownership Opportunity Program; Fiscal Year 2002

AGENCY: Office of the Assistant Secretary for Community Planning and Development, HUD.

ACTION: Notice of funding awards.

SUMMARY: In accordance with section 102(a)(4)(C) of the Department of Housing and Urban Development Reform Act of 1989, this announcement notifies the public of funding decisions made by the Department in a competition for funding under the Notice of Funding Availability (NOFA) for the Self-Help Homeownership Opportunity Program (SHOP). This announcement contains the names of the awardees and the amounts of the awards made available by HUD.

FOR FURTHER INFORMATION CONTACT: Clifford Taffet, Deputy Director, Office of Affordable Housing Programs, Office of Community Planning and Development, 451 Seventh Street, SW., Room 7162, Washington, DC 20410-7000; telephone (202) 708-2684 (this is not a toll-free number). Hearing- and speech-impaired persons may access this number via TTY by calling the Federal Relay Service toll-free at 1-800-877-8339. For general information on this and other HUD programs, call Community Connections at 1-800-998-9999 or visit the HUD Web site at http://www.hud.gov.

SUPPLEMENTARY INFORMATION: The Fiscal Year 2002 Self-Help Homeownership Opportunity Program competition is designed to facilitate and encourage innovative homeownership opportunities through self-help housing where the homebuyer contributes a significant amount of sweat-equity toward the construction of the new dwelling. Applicants must be a national or regional nonprofit organization or consortium.

The competition was announced in the SuperNOFA published March 26, 2002 (67 FR 14157). The NOFA allowed for approximately $22,000,000 for SHOP. Applications were rated and selected for funding on the basis of selection criteria contained in that Notice.

For the Fiscal Year 2002 competition, a total of $22,000,000 was awarded to five projects nationwide.

In accordance with section 102(a)(4)(C) of the Department of Housing and Urban Development Reform Act of 1989 (103 Stat. 1987, 42 U.S.C. 3545), the Department is publishing the grantees and amounts of the awards in Appendix A to this document.

Dated: August 3, 2006.
Nelson R. Bregon,
General Deputy Assistant Secretary for Community Planning and Development.

Fiscal Year 2002 Funding Awards for Self-Help Homeownership Opportunity Programs
Recipient | State | Amount
Habitat for Humanity International | GA | $10,809,000.00
Housing Assistance Council | DC | 6,861,000.00
PPEP Microbusiness and Housing Development Corporation | AZ | 2,356,000.00
Community Frameworks | WA | 1,623,000.00
ACORN Housing Corporation | IL | 351,000.00
Total |  | 22,000,000.00

[FR Doc. E6-14348 Filed 8-28-06; 8:45 am]

BILLING CODE 4210-67-P